DEPARTMENT OF TRANSPORTATION

Office of the Secretary of Transportation

14 CFR Part 382

[Docket No. DOT-OST-2022-0144]

RIN 2105-AF14

Ensuring Safe Accommodations for Air Travelers With Disabilities Using Wheelchairs

AGENCY: Office of the Secretary of Transportation (OST), U.S. Department of Transportation.

ACTION: Notification of enforcement discretion.

SUMMARY: This document announces that the U.S. Department of Transportation (DOT) will not take enforcement action until March 20, 2025, against regulated entities for failing to comply with the requirements contained in the final rule titled “Ensuring Safe Accommodations for Air Travelers With Disabilities Using Wheelchairs”.

DATES: As of February 20, 2025, enforcement of the amendments enacted in the final rule published December 17, 2024, at 89 FR 102398, is delayed until March 20, 2025.

FOR FURTHER INFORMATION CONTACT: Christopher Miller, Vinh Nguyen, Robert Gorman, or Blane Workie, Office of Aviation Consumer Protection, U.S. Department of Transportation, 1200 New Jersey Ave. SE, Washington, DC 20590, 202-366-9342 (phone), 202-366-7152 (fax), christopher.miller1@dot.gov, vinh.nguyen@dot.gov, robert.gorman@dot.gov, or blane.workie@dot.gov (email).

Electronic Access and Filing: This document, the notice of proposed rulemaking (NPRM), all comments received, the final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

SUPPLEMENTARY INFORMATION: On December 17, 2024, DOT issued a final rule titled “Ensuring Safe Accommodations for Air Travelers With Disabilities Using Wheelchairs” (89 FR 102398). This final rule established requirements regarding mishandled wheelchairs and scooters and improper transfers to and from aircraft seats, aisle chairs, and personal wheelchairs. This final rule became effective on January 16, 2025.

On January 20, 2025, the President issued a memorandum titled “Regulatory Freeze Pending Review,” ¹ to direct executive departments and agencies to consider postposing for 60 days the effective date for any rules that had been published in the Federal Register but had not taken effect for the purpose of reviewing any questions of fact, law, and policy that the rules may raise. While not explicitly subject to the President's memorandum, DOT is providing notice that it will exercise its enforcement discretion and not enforce the provisions of the December 17, 2024, final rule until March 20, 2025, to allow the officials appointed or designated by the President to review the final rule to ensure that it is consistent with the law and Administration policies.

¹ 90 FR 8249 (January 28, 2025).

Issued in Washington, DC, under authority delegated in 49 CFR 1.27(a):
Gregory D. Cote,
Acting General Counsel.

[FR Doc. 2025-02817 Filed 2-19-25; 8:45 am]

BILLING CODE 4910-9X-P